DEPARTMENT OF ENERGY

Federal Energy Regulatory Commission

Combined Notice Of Filings # 1

May 17, 2010.

Take notice that the Commission received the following electric corporate filings:

Docket Numbers: EC10-69-000.

Applicants: Wisconsin Electric Power Company, Wisconsin Power and Light Company.

Description: Application of Wisconsin Electric Power Company and Wisconsin Power and Light Company for Transaction Approval pursuant to Section 203.

Filed Date: 05/14/2010.

Accession Number: 20100514-5156.

Comment Date: 5 p.m. Eastern Time on Friday, June 4, 2010.

Take notice that the Commission received the following electric rate filings:

Docket Numbers: ER01-1699-010.

Applicants: Pilot Power Group, Inc.

Description: Pilot Power Group submits letter re Request for category seller status classification pursuant to Order 679 et al.

Filed Date: 05/14/2010.

Accession Number: 20100514-0022.

Comment Date: 5 p.m. Eastern Time on Friday, June 4, 2010.

Docket Numbers: ER10-1090-000.

Applicants: Commercial Energy of Montana Inc.

Description: Commercial Energy of Montana Inc. submits an Amendment to its Application for Market-Based Rate Authority.

Filed Date: 05/14/2010.

Accession Number: 20100514-5122.

Comment Date: 5 p.m. Eastern Time on Friday, June 4, 2010.

Docket Numbers: ER10-1245-000.

Applicants: Pennsylvania Electric Company.

Description: Pennsylvania Electric Company submits tariff filing per 35.12: Market-Based Power Sales Tariff to be effective 5/14/2010.

Filed Date: 05/14/2010.

Accession Number: 20100514-5039.

Comment Date: 5 p.m. Eastern Time on Friday, June 4, 2010.

Docket Numbers: ER10-1246-000.

Applicants: Consolidated Edison Energy, Inc.

Description: Consolidated Edison Energy, Inc. submits tariff filing per 35.12: Baseline filing of Consolidated Edison Energy, Inc. MBR to be effective 5/14/2010.

Filed Date: 05/14/2010.

Accession Number: 20100514-5058.

Comment Date: 5 p.m. Eastern Time on Friday, June 4, 2010.

Docket Numbers: ER10-1247-000.

Applicants: Commonwealth Edison Company.

Description: Commonwealth Edison Company of Indiana, Inc. submits ministerial revisions to Attachment H-13A of the PJM Interconnection, LLC Open Access Transmission tariff.

Filed Date: 05/14/2010

Accession Number: 20100514-0223.

Comment Date: 5 p.m. Eastern Time on Friday, June 4, 2010.

Docket Numbers: ER10-1248-000.

Applicants: ISO New England Inc.

Description: ISO New England Inc. submits its Capital Projects Report and schedule of the unamortized costs of the ISO's funded capital expenditures for the quarter ending 3/31/10.

Filed Date: 05/14/2010.

Accession Number: 20100514-0219.

Comment Date: 5 p.m. Eastern Time on Friday, June 4, 2010.

Docket Numbers: ER10-1249-000.

Applicants: Xcel Energy Services Inc.

Description: Public Service Company of Colorado submits an Agreement for Installation of Boundary Meeting and Balancing Authority Arrangements for Tri-State's Henry Lake Substation.

Filed Date: 05/14/2010.

Accession Number: 20100514-0220.

Comment Date: 5 p.m. Eastern Time on Friday, June 4, 2010.

Docket Numbers: ER10-1250-000.

Applicants: ISO New England Inc.

Description: ISO New England Inc. submits an Amendment 1 to their contract with their External market Monitor, Potomac Economics, Ltd.

Filed Date: 05/14/2010.

Accession Number: 20100514-0221.

Comment Date: 5 p.m. Eastern Time on Friday, June 4, 2010.

Docket Numbers: ER10-1251-000.

Applicants: Midwest Independent Transmission System Operator, Inc.

Description: Midwest Independent Transmission System Operator, Inc. submits revisions to the Credit Policy in Attachment L of the Open Access Transmission, Energy and Operating Reserve markets tariff, FERC Tariff, Fourth Revised Vol 1.

Filed Date: 05/14/2010.

Accession Number: 20100514-0222.

Comment Date: 5 p.m. Eastern Time on Friday, June 4, 2010.

Docket Numbers: ER10-1252-000.

Applicants: Consolidated Edison Solutions, Inc.

Description: Consolidated Edison Solutions, Inc. submits tariff filing per 35: Compliance filing of Consolidated Edison Solutions, Inc. to be effective 5/14/2010.

Filed Date: 05/14/2010.

Accession Number: 20100514-5089.

Comment Date: 5 p.m. Eastern Time on Friday, June 4, 2010.

Docket Numbers: ER10-1253-000.

Applicants: Orange and Rockland Utilities, Inc.

Description: Orange and Rockland Utilities, Inc. submits tariff filing per 35.12: Baseline filing of MBR Tariff Orange and Rockland Utilities, Inc. to be effective 5/14/2010.

Filed Date: 05/14/2010.

Accession Number: 20100514-5091.

Comment Date: 5 p.m. Eastern Time on Friday, June 4, 2010.

Docket Numbers: ER10-1254-000.

Applicants: Old Dominion Electric Cooperative.

Description: Old Dominion Electric Cooperative submits the First Revised Sheet 300JJ to the Open Access Transmission Tariff of PJM Interconnection, LLC, effective 6/1/10.

Filed Date: 05/14/2010.

Accession Number: 20100514-0228.

Comment Date: 5 p.m. Eastern Time on Friday, June 4, 2010.

Docket Numbers: ER10-1255-000.

Applicants: Cleco Power LLC.

Description: Cleco Power LLC submits Notice of Cancellation of the Electric System Interconnection Agreement Between Cleco and the City of Alexandria dated 5/13/96.

Filed Date: 05/14/2010.

Accession Number: 20100514-0227.

Comment Date: 5 p.m. Eastern Time on Friday, June 4, 2010.

Docket Numbers: ER10-1256-000.

Applicants: Conectiv Atlantic Generation, LLC.

Description: Conectiv Atlantic Generation, LLC submits its proposed Conectiv, FERC Electric Tariff, Original Volume 2 and associated cost support etc.

Filed Date: 05/14/2010.

Accession Number: 20100514-0226.

Comment Date: 5 p.m. Eastern Time on Friday, June 4, 2010.

Docket Numbers: ER10-1257-000.

Applicants: Wabash Valley Power Association, Inc.

Description: Wabash Valley Power Association, Inc. submits tariff filing per 35.12: WVPA Baseline—FERC Electric Tariff Volume No. 2 to be effective 5/14/2010.

Filed Date: 05/14/2010.

Accession Number: 20100514-5134.

Comment Date: 5 p.m. Eastern Time on Friday, June 4, 2010.

Docket Numbers: ER10-1258-000.

Applicants: Wabash Valley Energy Marketing, Inc.

Description: Wabash Valley Energy Marketing, Inc. submits tariff filing per 35.12: WVEM Baseline—FERC Electric Tariff Volume No. 1 to be effective 5/14/2010.

Filed Date: 05/14/2010.

Accession Number: 20100514-5135.

Comment Date: 5 p.m. Eastern Time on Friday, June 4, 2010.

Docket Numbers: ER10-1259-000.

Applicants: Pennsylvania Power Company.

Description: Pennsylvania Power Company submits tariff filing per 35.12: Market-Based Rate Power Tariff, to be effective 5/14/2010.

Filed Date: 05/17/2010.

Accession Number: 20100517-5012.

Comment Date: 5 p.m. Eastern Time on Monday, June 7, 2010.

Docket Numbers: ER10-1260-000.

Applicants: Metropolitan Edison Company.

Description: Metropolitan Edison Company submits tariff filing per 35.12: Market-Based Power Sales Tariff to be effective 5/14/2010.

Filed Date: 05/17/2010.

Accession Number: 20100517-5018.

Comment Date: 5 p.m. Eastern Time on Monday, June 7, 2010.

Docket Numbers: ER10-1262-000.

Applicants: The Detroit Edison Company.

Description: The Detroit Edison Company submits tariff filing per 35.12: Detroit Edison—Baseline Tariff Filing, to be effective 5/17/2010.

Filed Date: 05/17/2010.

Accession Number: 20100517-5040.

Comment Date: 5 p.m. Eastern Time on Monday, June 7, 2010.

Docket Numbers: ER10-1263-000.

Applicants: Southern California Edison Company.

Description: Southern California Edison Company submits letter agreement between SCE and Nextera Energy resources under ER10-1263.

Filed Date: 05/17/2010.

Accession Number: 20100517-0205.

Comment Date: 5 p.m. Eastern Time on Monday, June 7, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-12611 Filed 5-25-10; 8:45 am]

BILLING CODE 6717-01-P